DEPARTMENT OF AGRICULTURE

Food and Nutrition Service

Agency Information Collection Activities: Proposed Collection; Comment Request—FDPIR Nutrition Paraprofessional Training Assessment for Indian Tribal Organizations

AGENCY: Food and Nutrition Service (FNS) United States Department of Agriculture (USDA).

ACTION: Notice and request for comments.

SUMMARY: In accordance with the Paperwork Reduction Act of 1995, this notice invites the general public and other public agencies to comment on this proposed information collection. This collection is a new information collection for the Food Distribution Program on Indian Reservations.

DATES: Written comments on this notice must be received on or before September 19, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology. Comments may be sent to Akua White, Nutritionist, Nutrition Services and Access Branch USDA, Food and Nutrition Service, 3101 Park Center Drive, Room 508, Alexandria, VA 22302-1500. Comments may also be sent via fax to the attention of Akua White at 703-305-2964 or via email to Akua.White@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: To request more information on the proposed project or to obtain a copy of the data collection plans, contact Akua White, Nutritionist, Nutrition Services and Access Branch, USDA, Food and Nutrition Service, 3101 Park Center Drive, Room 508, Alexandria, VA 22301-1500. Fax: 703-305-2964; Email: Akua.White@fns.usda.gov.

SUPPLEMENTARY INFORMATION:

Title: FDPIR Nutrition Paraprofessional Training Assessment for Indian Tribal Organizations.

Form Number: N/A.

OMB Number: 0584—NEW.

Expiration Date of Approval: Not yet determined.

Type of Information Collection Request: New information collection.

Abstract: The U.S. Department of Agriculture (USDA), Food and Nutrition Service (FNS) administers the Food Distribution Program on Indian Reservations (FDPIR) as an alternative to the Supplemental Nutrition Assistance Program (SNAP), providing USDA-purchased foods (i.e., USDA Foods) to income eligible households on Indian reservations and to Native American families residing in designated areas near reservations and in the State of Oklahoma. As of April 2016, 102 Indian Tribal Organizations (ITOs) and three State Agencies (SAs) administer FDPIR, providing foods to approximately 276 tribes and including just under 93,000 participants. The Food Distribution Division at FNS is considering developing and delivering a nutrition paraprofessional training program for Food Distribution Program on Indian Reservation staff within Indian Tribal Organizations (ITOs). The objective of the FDPIR Nutrition Paraprofessional Training Assessment for Indian Tribal Organizations is to provide FNS with information of the best way to deliver the training to staff. Specifically, the FDPIR Nutrition Paraprofessional Training Assessment for Indian Tribal Organizations will help FNS to:

• Assess interest in a paraprofessional training project

• Determine the nutrition training topics that are most valued by ITOs and FDPIR staff

• Determine the most effective and culturally relevant format for training

• Determine the motivational factors for staff that might influence their participation in nutrition training

The activities to be undertaken subject to this notice include:

• Conducting open-ended interviews with FDPIR directors from 23 ITOs

• Conducting open-ended interviews with key FDPIR staff from these same 23 ITOs

• Conducting open-ended interviews with 15 key stakeholders considered expert representatives of FDPIR, ITOs, and/or experts in nutrition training

Affected Public: State, Local, and Tribal Governments (23 selected ITOs).

Type of Respondents: The total estimated number of respondents is 95. This figure includes 61 respondents and 34 non-respondents. Also included are ITOs on “standby” for the selected ITOs who do not respond or who elect not to participate. Standby ITOs will be contacted in the event that selected ITOs do not respond or choose not to participate.

The initial sample will consist of 36 ITO Directors. Assuming that 80 percent respond to the invitation email, the resulting respondent sample will include approximately 29 ITO Directors. Of the ITO Directors accepting the invitation to participate in telephone interviews, 80 percent (approximately 23) are expected to participate. In-depth interviews will be conducted with the 23 ITO Directors (with an expected 100 percent response rate).

Interviews with ITO Directors will yield a sample of 36 FDPIR Staff. Assuming that 80 percent respond to the invitation email, the resulting respondent sample will include approximately 29 FDPIR Staff. Of the FDPIR Staff accepting the invitation to participate in telephone interviews, 80 percent (approximately 23) are expected to participate. In-depth interviews will be conducted with the 23 FDPIR Staff (with an expected 100 percent response rate).

The initial sample of Key Stakeholders will consist of 23 individuals. Assuming that 65 percent respond to the invitation email, the resulting sample will include approximately 19 individuals. In-depth interviews will be conducted with the 15 Key Stakeholders (with an expected response rate of 80 percent). The 34 non-respondents include 13 ITO Directors, 13 FDPIR Staff, and 8 Key Stakeholders.

Estimated Number Total Annual Respondents and Non-Respondents: 95.

Estimated Total Annual Responses: 251 (183 responses and 68 non-responses).

Estimated Average Annual Frequency of Response (including non-response): 1.92 (183 responses/95 respondents).

Estimate of Time per Response: Burden per response (including responses from respondents participating in part and in full and the non-respondents) in this data collection is an estimated grand average of 0.51 (93.9 total burden hours/183 total responses). For the respondents, the average time per response is 0.52 (95 burden hours/183 responses) This estimates ninety (90) minutes per interview including fifteen (15) minutes for notification, scheduling, and interview instrument review; sixty (60) minutes for interviews per FDPIR director, staff member, and key stakeholder; and fifteen (15) minutes for follow-up and thank you emails. For the non-respondents, the average time per non-response is 0.05 (3.1 burden hours/68 non-responses). This estimates three (3) minutes per non-response for each data collection activity including pre-interview notification, interview and post-interview thank you emails for each category of non-respondents.

Estimated Total Annual Burden (including respondents and non-respondents): 93.90 hours.

Dated: July 6, 2016.
Telora T. Dean,
Acting Administrator, Food and Nutrition Service.

[FR Doc. 2016-17066 Filed 7-18-16; 8:45 am]

BILLING CODE 3410-30-P